DEPARTMENT OF THE INTERIOR

Office of Natural Resources Revenue

[Docket No. ONRR-2011-0020; DS63644000 DR2000000.CH7000 256D1113RT; OMB Control Number 1012-0004]

Agency Information Collection Activities: Royalty and Production Reporting

AGENCY: Office of Natural Resources Revenue (“ONRR”), Interior.

ACTION: Notice of information collection; request for comment.

SUMMARY: In accordance with the Paperwork Reduction Act of 1995 (“PRA”), ONRR is proposing to renew an information collection. Through this Information Collection Request (“ICR”), ONRR seeks renewed authority to collect information used to verify, audit, collect, and disburse royalty owed on oil, gas, and geothermal resources produced from Federal and Indian lands. ONRR uses forms ONRR-2014, ONRR-4054, and ONRR-4058 as part of these information collection requirements.

DATES: Your written comments must be received on or before September 2, 2025.

ADDRESSES: All comment submissions must (1) reference the Office of Management and Budget (“OMB”) Control Number 1012-0004 in the subject line; (2) be sent to ONRR before the close of the comment period listed under DATES; and (3) be sent using the following method:

• Electronically via the Federal eRulemaking Portal: Please visit https://www.regulations.gov. In the Search Box, enter the Docket ID Number for this ICR renewal (“ONRR-2011-0020”) and click “search” to view the publications associated with the docket folder. Locate the document with an open comment period and click the “Comment Now!” button. Follow the prompts to submit your comment prior to the close of the comment period.

• Email Submissions: Please submit your comments to ONRR_RegulationsMailbox@onrr.gov with the OMB Control Number (“OMB Control Number 1012-0004”) listed in the subject line of your email. Email submissions must be postmarked on or before the close of the comment period.

Docket: To access the docket folder to view the ICR Federal Register publications, go to https://www.regulations.gov and search “ONRR-2011-0020” to view renewal notices recently published in the Federal Register, publications associated with prior renewals, and applicable public comments received for this ICR. ONRR will make the comments submitted in response to this notice available for public viewing at https://www.regulations.gov.

OMB ICR Data: OMB also maintains information on ICR renewals and approvals. You may access this information at https://www.reginfo.gov/public/do/PRASearch. Please use the following instructions: Under the “OMB Control Number” heading enter “1012-0004” and click the “Search” button located at the bottom of the page. To view the ICR renewal or OMB approval status, click on the latest entry (based on the most recent date). On the “View ICR—OIRA Conclusion” page, check the box next to “All” to display all available ICR information provided by OMB.

FOR FURTHER INFORMATION CONTACT: Nicole Sweeney, Data Intake, Solutioning, and Coordination, ONRR, by email at Nicole.Sweeney@onrr.gov or by telephone (303) 231-3526.

Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: Pursuant to the PRA, 44 U.S.C. 3501 et seq. and 5 CFR 1320.5, all information collections, as defined in 5 CFR 1320.3, require approval by OMB. ONRR may not conduct or sponsor, and you are not required to respond to, a collection of information unless it displays a currently valid OMB control number.

As part of ONRR's continuing effort to reduce paperwork and respondent burdens, ONRR is inviting the public and other Federal agencies to comment on new, proposed, revised, and continuing collections of information in accordance with the PRA and 5 CFR 1320.8(d)(1). This helps ONRR to assess the impact of its information collection requirements and minimize the public's reporting burden. It also helps the public understand ONRR's information collection requirements and provide the requested data in the desired format.

ONRR is especially interested in public comments addressing the following:

(1) Whether the collection of information is necessary for the proper performance of the functions of the agency, including whether the information will have practical utility;

(2) The accuracy of ONRR's estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

ONRR published a 60-day Federal Register notice on January 30, 2023 (88 FR 5916) and received no comments. However, ONRR reached out to members of industry soliciting comments for our information collection request renewal and received five comments. Four members of industry provided comments agreeing with the content of this information collection, while one member of industry disagreed with the burden hour estimate.

In the 60-day notice, ONRR included content from the Bureau of Indian Affairs (“BIA”) proposed rule “Mining of the Osage Mineral Estate for Oil and Gas,” published on January 13, 2023 (88 FR 2430). The proposed rule would require a lessee of the Osage Mineral Estate to submit form ONRR-2014 and form ONRR-4058 for royalty and production reporting, which were included in this ICR renewal. However, the BIA did not publish a final rule. ONRR is therefore publishing this 30-day notice without Osage content to ensure a timely renewal of the existing collections.

Comments that you submit in response to this notice are a matter of public record. ONRR will include or summarize each comment in its request to OMB to approve this ICR. Before including your address, phone number, email address, or other personal identifying information in your comment, you should be aware that your entire comment—including your personal identifying information—may be made publicly available at any time. While you can ask ONRR in your comment to withhold your personal identifying information from public review, ONRR cannot guarantee that it will be able to do so.

Abstract: (a) General Information: The Federal Oil and Gas Royalty Management Act of 1982 (“FOGRMA”) directs the Secretary of the Interior (“Secretary”) to “establish a comprehensive inspection, collection and fiscal and production accounting and auditing system to provide the capability to accurately determine oil and gas royalties, interest, fines, penalties, fees, deposits, and other payments owed, and to collect and account for such amounts in a timely manner.” 30 U.S.C. 1711(a). ONRR performs these and other mineral revenue management responsibilities for the Secretary. See U.S. Department of the Interior Departmental Manual, 112 DM 34.1 (Sept. 9, 2020).

ONRR uses the production, royalty, and other collected information described in this ICR to ensure that a lessee properly pays royalty and other mineral revenues due on oil, gas, and geothermal resources produced from Federal and Indian lands. ONRR shares the data with BIA, Bureau of Land Management, Bureau of Ocean Energy Management, Bureau of Safety and Environmental Enforcement, and Tribal and State governments for their land and lease management responsibilities. The requirement to report accurately and timely is mandatory.

(b) Information Collections: This ICR covers the paperwork requirements under 30 CFR part 1210, subparts B, C, and D; part 1212, subpart B as follows:

(1) Royalty Reporting: Regulations at 30 CFR part 1210, subparts B and D and part 1212, subpart B, require a lessee to report and remit royalty on oil, gas, and geothermal resources, and to make, retain, and, upon request, provide for inspection accurate and complete records demonstrating proper royalty and other payment. A lessee submits form ONRR-2014, Report of Sales and Royalty Remittance, monthly to report royalty on oil, gas, and geothermal leases. Each line contains the royalty owed and the basic elements necessary to calculate the royalty, such as lease number, agreement number, unit number, product code, sales type, sales volume, sales value, processing allowances, transportation allowances, royalty value prior to allowances, and royalty value less allowances. A lessee also uses the form to report certain rents.

(2) Production Reporting: Regulations at 30 CFR part 1210, subparts C and D and part 1212, subpart B, require an operator to submit production reports if it operates a Federal or Indian oil and gas lease or federally approved unit or communitization agreement, and to make, retain, and, upon request, provide for inspection accurate and complete records for demonstrating royalty payment. An operator uses the following forms for production accounting and reporting:

(i) Form ONRR-4054, Oil and Gas Operations Report: An operator submits this report monthly. Part A tracks the oil and gas volume produced from each Federal or Indian well. Part B tracks disposition of the oil and gas. Part C tracks the oil and gas inventory on the property. ONRR compares the production information with the sales and other royalty data that a lessee submits on form ONRR-2014 to ensure that the lessee paid and reported the proper royalty on the reported oil and gas production. ONRR also uses the information from parts A, B, and C to track all oil and gas from the point of production to the point of first sale or other disposition.

(ii) Form ONRR-4058, Production Allocation Schedule Report: Unless certain conditions are met, an operator must submit this report if it operates an offshore facility measurement point (FMP) handling production from a Federal oil and gas lease or federally approved unit agreement that is commingled (with approval) with production from any other source prior to measurement for royalty determination. The report is filed monthly to allocate the production to each source. ONRR uses the data to verify accurate production and royalty reporting.

Title of Collection: Royalty and Production Reporting.

OMB Control Number: 1012-0004.

Form Numbers: ONRR-2014, ONRR-4054, and ONRR-4058.

Type of Review: Extension to a currently approved collection.

Respondents/Affected Public: Businesses.

Total Estimated Number of Annual Respondents: 2,046 oil, gas, and geothermal reporters.

Total Estimated Number of Annual Responses: 8,030,915 lines of data.

Estimated Completion Time per Response: Varies between 1 and 7 minutes per line, depending on the activity. The average completion time is 1.89 minutes per line. The average completion time is calculated by first multiplying the estimated annual burden hours (253,600) by 60 to obtain the total annual burden minutes. Then the total annual burden minutes (15,218,700) is divided by the estimated annual number of lines submitted (8,030,915).

Total Estimated Number of Annual Burden Hours: 253,600 hours.

Respondent's Obligation: Mandatory.

Frequency of Collection: Monthly.

Total Estimated Annual Non-Hour Burden Cost: ONRR identified no “non-hour cost” burden associated with this collection of information.

An agency may not conduct, or sponsor and a person is not required to respond to a collection of information unless it displays a currently valid OMB control number.

The authority for this action is the PRA (44 U.S.C. 3501 et seq.).

April Lockler,
Acting Director, Office of Natural Resources Revenue.

[FR Doc. 2025-14455 Filed 7-30-25; 8:45 am]

BILLING CODE 4335-30-P